DEPARTMENT OF LABOR

Employment and Training Administration

[TA-W-70,326]

Ford Motor Company, Dearborn Truck Plant, Dearborn, MI; Notice of Negative Determination on Reconsideration

By application dated September 18, 2009, a petitioner requested administrative reconsideration of the Department's negative determination regarding eligibility to apply for Trade Adjustment Assistance (TAA) applicable to workers and former workers of Ford Motor Company, Dearborn Truck Plant, Dearborn, Michigan. The Department's Notice of Affirmative Determination Regarding Application for Reconsideration was signed on September 29, 2009, and published in the Federal Register on October 20, 2009 (74 FR 53766).

The investigation resulted in a negative determination based on the finding that workers' separations or threat of separations were not related to an increase in imports of like or directly competitive products with Ford F Series pickups and Lincoln Mark LR sports-utility pickups and there was no shift/acquisition of production of Ford F Series pickups and Lincoln Mark LR sports-utility pickups to/from a foreign country.

The petitioners alleged that production at the subject facility was negatively impacted by increased imports of directly competitive products. The petition further states that “any brand of new vehicle available for purchase” should be considered like or directly competitive with the products manufactured by the subject firm, thus imports of all vehicles should be considered in the investigation.

In order to establish import impact, the Department solicits relevant information from the subject firm, customers of the subject firm and analyzes available United States aggregate data regarding imports of articles, including articles like or directly competitive with the products manufactured by the subject firm for the relevant period (one year prior to the date of the petition). Like or directly competitive means that like articles are those which are substantially identical in inherent or intrinsic characteristics; and directly competitive articles are those which, although not substantial identical, are substantially equivalent for commercial purposes (i.e., adapted to the same uses and essentially interchangeable therefore).

In case at hand, the like articles are specifically Ford F Series pickups and Lincoln Mark LT sports-utility pickups, while directly competitive products include other equivalent for commercial purposes vehicles, which are adapted to the same use and can be classified under the same category of vehicles. Therefore, any vehicles that can be categorized under the full-sized pickups and sport-utility pickups are considered to be directly competitive with the vehicles manufactured by the subject firm. The analysis of the data revealed that U.S. aggregate imports of full-sized pickups and sport utility pickups declined absolutely and relatively in comparison with sales of U.S.-manufactured full-sized pickups and sport utility pickups from 2007 to 2008 and from January through July 2009 over the corresponding 2008 period.

To support the allegation, the petitioner attached several newspaper articles, alleging that Ford manufactures pickups in Australia, South Africa and Thailand and is increasing its production capacity of Fiesta in Mexico and Canada.

The Department contacted company officials of Ford Motor Company to address the above allegations. The company officials stated that Ford does not produce like or directly competitive products with Ford F Series pickups and Lincoln Mark LT sports-utility pickups in Australia, South Africa and Thailand. The official also stated that vehicles manufactured in Canada are also not like or directly competitive with Ford F Series and Lincoln Mark LT pickups. Moreover, the official stated that Ford Motor Company does not manufacture pickups in Mexico and Canada. The company official confirmed that Ford Motor Company did not shift production of Ford F Series and Lincoln Mark LT pickups from Dearborn, Michigan abroad during the relevant period.

The investigation revealed that the reduction in market share resulted in over-capacity at Ford facilities, and that the layoffs at the subject facility were not related to increased imports of like or directly competitive vehicles with Ford F Series and Lincoln Mark LT pickups and there was no shift of production of these vehicles abroad during the period under investigation.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After reconsideration, I affirm the original notice of negative determination of eligibility to apply for worker adjustment assistance for workers and former workers of Ford Motor Company, Dearborn Truck Plant, Dearborn, Michigan.

Signed at Washington, DC, this 8th day of January 2010.
Elliott S. Kushner,
Certifying Officer, Division of Trade Adjustment Assistance.

[FR Doc. 2010-897 Filed 1-19-10; 8:45 am]

BILLING CODE 4510-FN-P